NUCLEAR REGULATORY COMMISSION

[Docket No. 50-264; NRC-2020-0048]

In the Matter of the Dow Chemical Company; Dow TRIGA Research Reactor

AGENCY: Nuclear Regulatory Commission.

ACTION: Indirect transfer of license; order.

SUMMARY: The U.S. Nuclear Regulatory Commission (NRC, the Commission) is issuing an order approving an application filed by the Dow Chemical Company (TDCC) on November 22, 2019. The application sought NRC approval of the indirect transfer of control of Renewed Facility Operating License No. R-108 for the Dow TRIGA Research Reactor (DTRR). The indirect transfer of control resulted from the merger of TDCC with E.I. du Pont De Nemours and Company in August 2017, which established a new parent company, DowDuPont, Inc. Subsequently, in April 2019, Dow, Inc. was formed as a separate company from DowDuPont, Inc. and TDCC became a wholly-owned subsidiary of Dow, Inc. The NRC determined that TDCC remains qualified to hold Renewed Facility Operating License No. R-108, and that the indirect transfer of the license is otherwise consistent with the applicable provisions of law, regulations, and orders issued by the Commission pursuant thereto. The NRC further determined that the indirect transfer of control of the license necessitated no changes to the license. The order is effective on the date it was issued.

DATES: The order was issued on April 17, 2020.

ADDRESSES: Please refer to Docket ID NRC-2020-0048 when contacting the NRC about the availability of information regarding this document. You may obtain publicly-available information related to this document using any of the following methods:

• Federal Rulemaking Website: Go to https://www.regulations.gov and search for Docket ID NRC-2020-0048. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided.

FOR FURTHER INFORMATION CONTACT: Geoffrey Wertz, Office of Nuclear Reactor Regulation, U.S. Nuclear Regulatory Commission, Washington, DC 20555-0001; telephone: 301-415-0893, email: Geoffrey.Wertz@nrc.gov.

SUPPLEMENTARY INFORMATION: The text of the order is attached.

Dated: April 20, 2020.
For the Nuclear Regulatory Commission.
Greg A. Casto,
Chief, Non-Power Production and Utilization Facility Licensing Branch, Division of Advanced Reactors and Non-Power Production and Utilization Facilities, Office of Nuclear Reactor Regulation.

Attachment—Order Approving Indirect Transfer of Control of License

UNITED STATES OF AMERICA

NUCLEAR REGULATORY COMMISSION

[Docket No. 50-264; License No. R-108]

In the Matter of The Dow Chemical Company

Dow TRIGA Research Reactor

ORDER APPROVING INDIRECT TRANSFER OF CONTROL OF LICENSE

I.

The Dow Chemical Company (TDCC, the licensee) is the holder of Renewed Facility Operating License No. R-108 for the Dow TRIGA Research Reactor (DTRR), located on property owned by TDCC in Midland, Michigan. TDCC is a wholly-owned subsidiary of Dow, Inc.

II.

By application dated November 22, 2019, the licensee requested that the U.S. Nuclear Regulatory Commission (NRC, the Commission) approve, pursuant to Section 184, “Inalienability of Licenses,” of the Atomic Energy Act of 1954, as amended, and Title 10 of the Code of Federal Regulations (10 CFR) 50.80, “Transfer of licenses,” the indirect transfer of control of the license for the DTRR, without amendment. The indirect transfer of control resulted from the merger of TDCC with E.I. du Pont De Nemours and Company in August 2017, which established a new parent company, DowDuPont, Inc. Subsequently, in April 2019, Dow, Inc. was formed as a separate company from DowDuPont, Inc. and TDCC became a wholly-owned subsidiary of Dow, Inc.

A notice entitled, “Dow TRIGA Research Reactor; Consideration of Approval of Transfer of License,” was published in the Federal Register on February 11, 2020 (85 FR 7800). The NRC received one comment that was submitted anonymously and stated only: “Good.” No hearing requests were received.

Under 10 CFR 50.80, no license for a production or utilization facility, or any right thereunder, shall be transferred, either voluntarily or involuntarily, directly or indirectly, through transfer of control of the license to any person, unless the Commission gives its consent in writing. Upon review of the information in the application, and other information before the Commission, the NRC staff has determined that TDCC remains qualified to hold Renewed Facility Operating License No. R-108, and that the indirect transfer of Renewed Facility Operating License No. R-108 is otherwise consistent with the applicable provisions of law, regulations, and orders issued by the Commission pursuant thereto. The NRC staff has further determined that the indirect transfer of control of Renewed Facility Operating License No. R-108 necessitates no changes to the license.

The findings set forth above are supported by an NRC staff safety evaluation (SE) dated April 17, 2020.

III.

Accordingly, pursuant to Sections 161b, 161i, and 184 of the Atomic Energy Act of 1954, as amended, 42 U.S.C. Sections 2201(b), 2201(i), and 2234; and 10 CFR 50.80, it is hereby ordered that the application regarding the indirect license transfer is approved for the DTRR.

This Order is effective upon issuance.

For further details with respect to this Order, see the application dated November 22, 2019 (Agencywide Documents Access and Management System (ADAMS) Accession No. ML19330A244), and the SE dated April 17, 2020 (ADAMS Accession No. ML20045F356), which are available for public inspection at the NRC's Public Document Room (PDR), located at One White Flint North, Public File Area 01 F21, 11555 Rockville Pike (first floor), Rockville, Maryland. Publicly available documents created or received at the NRC are accessible electronically through ADAMS in the NRC Library at https://www.nrc.gov/reading-rm/adams.html. Persons who do not have access to ADAMS or who encounter problems in accessing the documents located in ADAMS, should contact the NRC PDR reference staff by telephone at 1-800-397-4209 or 301-415-4737, or by email to pdr.resource@nrc.gov.

Dated at Rockville, Maryland, this 17th day of April 2020.

For The Nuclear Regulatory Commission.

Brian W. Smith,

Deputy Director, Division of Advanced Reactors and Non-Power, Production and Utilization Facilities, Office of Nuclear Reactor Regulation.

[FR Doc. 2020-08686 Filed 4-23-20; 8:45 am]

BILLING CODE 7590-01-P